DEPARTMENT OF COMMERCE

Foreign-Trade Zones Board

[Docket 24-2012]

Foreign-Trade Zone 79—Tampa, FL; Application for Reorganization/Expansion Under Alternative Site Framework

An application has been submitted to the Foreign-Trade Zones (FTZ) Board (the Board) by the City of Tampa, grantee of FTZ 79, requesting authority to reorganize and expand the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on March 23, 2012.

FTZ 79 was approved by the Board on May 29, 1982 (Board Order 192, 47 FR 24760, 6/8/82) and expanded on December 29, 1993 (Board Order 676, 59 FR 1371, 1/10/94) and on November 21, 2000 (Board Order 1128, 65 FR 76217, 12/6/2000).

The current zone project includes the following sites: Site 1 (29 acres)—Tampa International Center, Adamo Drive and 22nd Street, Tampa (Hillsborough County); Site 2 (33 acres)—Tampa International Airport Cargo Complex, Tampa Boulevard and Lauber Way, Tampa (Hillsborough County); Site 3 (50 acres)—Tampa Industrial Park, Malcolm McKinley Drive and Fowler Avenue, Tampa (Hillsborough County); Site 4 (14 acres)—Tampa Convention Center, 333 South Franklin Street, Tampa (Hillsborough County); Site 5 (295 acres)—Port Authority's Hooker's Point terminal complex, Maritime Boulevard, Tampa (Hillsborough County); Site 6 (33 acres)—George B. Howell terminal facility, 20th and Thrace Streets, Tampa (Hillsborough County); Site 7 (100 acres)—Tampa International Airport jet fuel storage complex, Tampa (Hillsborough County); Site 8 (2 acres)—East Tampa Container Station, 1831 Massaro Blvd., Tampa (Hillsborough County).

The grantee's proposed service area under the ASF would be the Counties of Hillsborough and Polk and the City of Tampa, Florida, as described in the application. If approved, the grantee would be able to serve sites throughout the service area based on companies' needs for FTZ designation. The proposed service area is within and adjacent to the Tampa Customs and Border Protection port of entry.

The applicant is requesting authority to reorganize and expand its existing zone project under the ASF as follows: Sites 1 and 3 would be removed; and, Sites 2, 4, 5, 6, 7, and 8 would become “magnet” sites. The applicant is also requesting approval of a new “magnet” site and an initial “usage-driven” site, respectively: Proposed Site 9 (113 acres)—Rockefeller Group Park of Commerce, 3401 Old Polk City Road, Lakeland (Polk County), and, Proposed Site 10 (60 acres)—Star Distribution System Inc., 2302 Henderson Way, Plant City (Hillsborough County). The ASF allows for the possible exemption of one magnet site from the “sunset” time limits that generally apply to sites under the ASF, and the applicant proposes that Site 5 be so exempted. Because the ASF only pertains to establishing or reorganizing a general-purpose zone, the application would have no impact on FTZ 79's authorized subzones.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is May 29, 2012. Rebuttal comments in response to material submitted during the foregoing period may be submitted during the subsequent 15-day period to June 12, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Kathleen Boyce at Kathleen.Boyce@trade.gov or (202) 482-1346.

Dated: March 23, 2012.
Andrew McGilvray,
Executive Secretary.

[FR Doc. 2012-7580 Filed 3-28-12; 8:45 am]

BILLING CODE P